NATIONAL CREDIT UNION ADMINISTRATION

Agency Information Collection Activities: Submission to OMB for Revision to a Currently Approved Information Collections; Comment Request

AGENCY: National Credit Union Administration (NCUA).

ACTION: Request for comment.

SUMMARY: The NCUA intends to submit the following information collections to the Office of Management and Budget (OMB) for review and clearance under the Paperwork Reduction Act of 1995 (Pub. L. 104-13, 44 U.S.C. Chapter 35). This information collection is published to obtain comments from the public.

DATES: Comments will be accepted until January 20, 2006.

ADDRESSES: Interested parties are invited to submit written comments to NCUA Clearance Officer listed below:

Clearance Officer: Mr. Neil McNamara, (703) 518-6447, National Credit Union Administration, 1775 Duke Street, Alexandria, Virginia 22314-3428. Fax No. 703-518-6489. E-mail: mcnamara@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

OMB Number: 3133-0143.

Form Number: N/A.

Type of Review: Extension of a currently approved collection.

Title: 12 CFR part 760. Loans in Areas Having Special Flood Hazards.

Description: Federally insured credit unions are required by statute and by 12 CFR part 760 to file reports, make certain disclosures and keep records. Borrowers use this information to make valid purchase decisions. The NCUA uses the records to verify compliance.

Respondents: All federal credit unions.

Estimated No. of Respondents/Recordkeepers: 5,350.

Estimated Burden Hours Per Response: 1 hour.

Frequency of Response: Recordkeeping, Reporting, and on occasion.

Estimated Total Annual Burden Hours: 154,850.

Estimated Total Annual Cost: N/A.

By the National Credit Union Administration Board on November 14, 2005.
Mary Rupp,
Secretary of the Board.

[FR Doc. 05-22984 Filed 11-18-05; 8:45 am]

BILLING CODE 7535-01-P